DEPARTMENT OF COMMERCE

Foreign-Trade Zones Board

[Docket 68-2000]

Foreign-Trade Zone 64—Jacksonville, FL; Application for Subzone Status; Atlantic Marine, Inc. (Shipbuilding and Repair)

An application has been submitted to the Foreign-Trade Zones Board (the Board) by the Jacksonville Port Authority, grantee of FTZ 64, requesting special-purpose subzone status for the shipbuilding facility of Atlantic Marine, Inc. (AMI), in Jacksonville, Florida. The application was submitted pursuant to the provisions of the Foreign-Trade Zones Act, as amended (19 U.S.C. 81a-81u), and the regulations of the Board (15 CFR Part 400). It was formally filed on December 5, 2000.

The AMI shipyard (81 acres, 276,000 sq. ft.) is located along the St. Johns River at 8500 Heckscher Drive in Jacksonville. The facility is used for the construction, repair, and conversion of commercial vessels for domestic and international customers. The application indicates that all steel mill products are sourced domestically. Foreign components that may be used at the AMI shipyard (up to 12% of vessel value) include propulsion units, engines and control systems, pumps, air-conditioning systems, hydraulic parts, fire doors, pipes, solenoids, valves, multimeters, gaskets, washers, signaling equipment, davits and lifeboats, electric motors, articles of rubber and chrome, navigation and electronic equipment, propellers, anchors, deck cranes, plumbing fixtures, lighting equipment, carpet, furniture, wall and ceiling panels, and table and kitchen ware (2000 duty rate range: free—29%, ad valorem).

FTZ procedures would exempt AMI from Customs duty payments on the foreign components (except steel mill products) used in export activity. On its domestic sales, the company would be able to choose the duty rate that applies to finished oceangoing vessels (duty free) for the foreign-origin components noted above. The manufacturing activity conducted under FTZ procedures would be subject to the “standard shipyard restriction” applicable to foreign-origin steel mill products (e.g., angles, pipe, plate), which requires that Customs duties be paid on such items. The application indicates that the savings from FTZ procedures would help improve the facility's international competitiveness.

In accordance with the Board's regulations, a member of the FTZ Staff has been designated examiner to investigate the application and report to the Board.

Public comment on the application is invited from interested parties. Submissions (original and three copies) shall be addressed to the Board's Executive Secretary at the address below. The closing period for their receipt is February 12, 2001. Rebuttal comments in response to material submitted during the foregoing period may be submitted during the subsequent 15-day period (to February 26, 2001).

A copy of the application will be available for public inspection at the following locations:

Office of the Port Director, U.S. Customs Service, 2831 Talleyrand Avenue, Jacksonville, FL 32206.

Office of the Executive Secretary, Foreign-Trade Zones Board, Room 4008, U.S. Department of Commerce, 14th Street & Constitution Avenue, NW, Washington, DC 20230.

Dated: December 5, 2000.
Dennis Puccinelli,
Executive Secretary.

[FR Doc. 00-31755 Filed 12-12-00; 8:45 am]

BILLING CODE 3510-DS-P